Title 3—

The President

Proclamation 7823 of October 1, 2004

National Breast Cancer Awareness Month, 2004

By the President of the United States of America

A Proclamation

During National Breast Cancer Awareness Month, we raise awareness of this deadly disease, encourage early detection, and support research to find a cure.

Prevention and early detection are key to winning the fight against breast cancer. Although the exact cause of the disease is unknown, factors that can affect the risk of developing cancer include age, general health, and family history. This year, estimates are that over 200,000 women will be diagnosed with breast cancer. Regular screening for breast cancer continues to be the most effective way to detect this disease early and to save lives, and mammograms are the best screening tool we currently have. Women should talk to their health care providers about their breast cancer risk.

To improve the quality of life and find a cure for those affected by breast cancer, we are learning more about its causes. The National Institutes of Health has invested an estimated $700 million this year alone on breast cancer research and will spend more next year. The Centers for Disease Control and Prevention has devoted over $200 million this year and more next year for an early detection program that promotes mammograms and helps low-income women afford screenings for breast and cervical cancer. The Department of Defense also invested approximately $150 million for its Breast Cancer Research program in 2004. This funding will help lead to better treatments for cancer patients and new hope for countless Americans and their families.

We salute breast cancer survivors for their courage and perseverance. Their courageous battle against cancer is an inspiration to countless Americans, and their willingness to share their stories and experiences helps spread awareness and offers hope and comfort to cancer patients across the country. Together with health care professionals, researchers, and family members, we can improve the lives of those suffering from this disease and win the fight against breast cancer.

NOW, THEREFORE, I, GEORGE W. BUSH, President of the United States of America, by virtue of the authority vested in me by the Constitution and laws of the United States, do hereby proclaim October 2004 as National Breast Cancer Awareness Month. I call upon Government officials, businesses, communities, health care professionals, educators, volunteers, and all the people of the United States to continue our Nation's strong commitment to controlling and curing breast cancer.

IN WITNESS WHEREOF, I have hereunto set my hand this first day of October, in the year of our Lord two thousand four, and of the Independence of the United States of America the two hundred and twenty-ninth.

B

[FR Doc. 04-22624

Filed 10-5-04; 8:45 am]

Billing code 3195-01-P